DEPARTMENT OF THE TREASURY

Office of Foreign Assets Control

Proposed Collection; Comment Request for Iranian Financial Sanctions Regulations Report on Closure by U.S. Financial Institutions of Correspondent Accounts and Payable-Through Accounts

AGENCY: Office of Foreign Assets Control, Treasury.

ACTION: Notice and request for comments.

SUMMARY: The Department of the Treasury, as part of its continuing effort to reduce paperwork and respondent burden, invites the general public and other federal agencies to comment on proposed and/or continuing information collections, as required by the Paperwork Reduction Act of 1995. Currently, the Office of Foreign Assets Control (OFAC) within the Department of the Treasury is soliciting comments concerning OFAC's Iranian Financial Sanctions Regulations Report on Closure by U.S. Financial Institutions of Correspondent Accounts and Payable-Through Accounts.

DATES: Written comments must be submitted on or before February 19, 2019 to be assured of consideration.

ADDRESSES: You may submit comments by any of the following methods:

Federal eRulemaking Portal: www.regulations.gov. Follow the instructions on the website for submitting comments.

Fax: Attn: Request for Comments (Iranian Financial Sanctions Regulations Report on Closure by U.S. Financial Institutions of Correspondent Accounts and Payable-Through Accounts) 202-622-1759.

Mail: Attn: Request for Comments (Iranian Financial Sanctions Regulations Report on Closure by U.S. Financial Institutions of Correspondent Accounts and Payable-Through Accounts), Office of Foreign Assets Control, Department of the Treasury, 1500 Pennsylvania Avenue NW, Washington, DC 20220.

Instructions: All submissions received must include the agency name and the Federal Register Doc. number that appears at the end of this document. Comments received will be made available to the public via regulations.gov or upon request, without change and including any personal information provided.

FOR FURTHER INFORMATION CONTACT: OFAC: Assistant Director for Licensing, tel.: 202-622-2480; Assistant Director for Regulatory Affairs, tel.: 202-622-4855; Assistant Director for Sanctions Compliance & Evaluation, tel.: 202-622-2490; or the Department of the Treasury's Office of the Chief Counsel (Foreign Assets Control), Office of the General Counsel, tel.: 202-622-2410.

SUPPLEMENTARY INFORMATION:

Title: Iranian Financial Sanctions Regulations Report on Closure by U.S. Financial Institutions of Correspondent Accounts and Payable-Through Accounts.

OMB Number: 1505-0243.

Abstract: Section 561.504(b) of the Iranian Financial Sanctions Regulations, 31 CFR part 561 (the IFSR), specifies that a U.S. financial institution that maintained a correspondent account or payable-through account for a foreign financial institution whose name is added to the Part 561 List ¹ on OFAC's website (www.treasury.gov/ofac) as subject to a prohibition on the maintaining of such accounts must file a report with OFAC that provides full details on the closing of each such account within 30 days of the closure of the account. This collection of information assists in verifying that U.S. financial institutions are complying with prohibitions on maintaining correspondent accounts or payable-through accounts for foreign financial institutions listed on the Part 561 List. The reports will be reviewed by the U.S. Department of the Treasury and may be used for compliance and enforcement purposes by the agency.

¹ On March 1, 2018, OFAC created a new list, titled the List of Foreign Financial Institutions Subject to Correspondent Account or Payable-Through Account Sanctions (the “CAPTA List”). The CAPTA List will include foreign financial institutions subject to correspondent or payable-through account sanctions pursuant to sanctions authorities including the Ukraine Freedom Support Act of 2014, as amended by the Countering America's Adversaries Through Sanctions Act, and the North Korea Sanctions Regulations, 31 CFR part 510, as well as the specific strict conditions or prohibitions to which the foreign financial institutions are subject. It eventually will be expanded to include foreign financial institutions subject to correspondent or payable-through account sanctions pursuant to additional authorities, including the Iranian Financial Sanctions Regulations, 31 CFR part 561, which are currently identified on OFAC's Part 561 List. At that time, by separate action, OFAC will move the name of the foreign financial institution on the Part 561 List, along with the relevant prohibition or strict condition(s) to which the foreign financial institution is subject, to the CAPTA List. This will not impact the relevant reporting requirement.

Current Actions: There are no changes being made to the notice at this time.

Type of Review: Extension of a currently approved collection.

Affected Public: U.S. financial institutions operating correspondent accounts or payable-through accounts for foreign financial institutions.

Estimated Number of Respondents: The likely respondents and record-keepers affected by this collection of information in section 561.504(b) are U.S. financial institutions operating correspondent accounts or payable through accounts for foreign financial institutions. Since the date this reporting requirement was added to the IFSR (February 27, 2012) through June 18, 2015, OFAC added the names of two foreign financial institutions to the Part 561 List, of which one remains. No foreign financial institution was added to the Part 561 List during the current reporting period (through December 15, 2018), and the number of respondents to this collection has been zero. For future notices, OFAC will continue to report retrospectively on the number of respondents during the reporting period.

Estimated Time per Respondent: 2 hours per response.

Estimated Total Annual Burden Hours: While no responses are expected, an estimate of 1 response (2 hours) is being included to account for the possibility that someone could have to provide a notification in the future.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology; and (e) estimates of capital or start-up costs and costs of operation, maintenance, and purchase of services to provide information.

Approved: December 17, 2018.
Andrea Gacki,
Director, Office of Foreign Assets Control.

[FR Doc. 2018-27623 Filed 12-20-18; 8:45 am]

BILLING CODE 4810-AL-P